DEPARTMENT OF ENERGY

Notice of Intent Regarding Launching a Carbon Transport Research, Development and Demonstration Consortium

AGENCY: Office of Fossil Energy and Carbon Management, Department of Energy.

ACTION: Notice of intent (NOI).

SUMMARY: The Office of Fossil Energy and Carbon Management (FECM), Department of Energy (DOE), is issuing this NOI to notify interested parties of its intent to launch a “Carbon Transport Research, Development and Demonstration (RD&D) Consortium (the Consortium)” to identify and coordinate carbon transport RD&D efforts (e.g., pipeline, rail, truck, ship, and barge transportation); facilitate communication among stakeholders; and compile and curate information in an open access platform. The DOE initially sought input from stakeholders through a Request for Information DE-FOA-0003330 (RFI 3330) (www.fedconnect.net/FedConnect/default.aspx?ReturnUrl=%2ffedconnect%2f%3fdoc%3dDE-FOA-0003330%26agency%3dDOE&doc=DE-FOA-0003330&agency=DOE) issued on September 18, 2024. Through this NOI, the DOE is establishing a second opportunity to obtain information that could be used to inform DOE's decisions on the initiation of the Consortium and to gauge interest in participating in the Consortium. FECM intends to launch the Consortium after reviewing responses to RFI 3330 and this NOI. Parties that express interest in joining the Consortium, either through this NOI or through RFI 3330, will be contacted via email with instructions on how to officially register to join.

DATES: Written comments, and information are requested by January 21, 2025.

ADDRESSES: Interested parties may submit comments electronically to FOA3330@netl.doe.gov and include “DOE Carbon Transport Consortium” in the subject line of the email. Only electronic responses will be accepted.

FOR FURTHER INFORMATION CONTACT: Questions may be addressed to Robert Smith, at 202-597-4058 or robert.smith8@hq.doe.gov.

SUPPLEMENTARY INFORMATION:

I. Drivers for a Carbon Transport RD&D Consortium

In line with the goal of broad stakeholder engagement and its 2022 Strategic Vision,¹ DOE FECM hosted the Workshop for Applied Research in Carbon Dioxide (CO2) Transport ² in Dublin, Ohio, from February 21-22, 2023 (the Workshop). Approximately 100 individuals from Federal agencies, industry, academia, nongovernmental organizations, national laboratories, and other stakeholder groups participated in the Workshop to share individual perspectives and provide input about the following objectives:

¹ United States Department of Energy. (2022). Strategic Vision: The Role of Fossil Energy and Carbon Management in Achieving Net-Zero Greenhouse Gas Emissions. www.energy.gov/fecm/strategic-vision-role-fecm-achieving-net-zero-greenhouse-gas-emissions#:~:text=Reports%20and%20Studies-Strategic%20Vision%3A%20The%20Role%20of%20FECM%20in,Net%2DZero%20Greenhouse%20Gas%20Emissions&text=FECM%27s%20priority%20is%20reaching%20the,greenhouse%20gas%20emissions%20by%202050.

² United States Department of Energy Office of Fossil Energy and Carbon Management. (2023). Roadmap for CO2 Transport Fundamental Research Workshop. www.netl.doe.gov/23TFRW-proceedings.

• Identify near-term challenges and RD&D areas of interest;

• Identify lab- and pilot-scale research activities of interest;

• Identify potential participants in ongoing and future RD&D efforts; and

• Identify whether a carbon transport research consortium would advance carbon capture, utilization, and storage deployment, and could address potential barriers to future success.

The key result of the Workshop was the identification of four broad topics of interest (TOIs) for fundamental and applied RD&D in CO2 transport:

(a) Impact of CO2 impurities on asset integrity;

(b) CO2-specific leak detection and emergency response protocols;

(c) Repurposing of existing infrastructure for CO2 service; and

(d) Developing and connecting with other modes of CO2 transport/intermodal hubs.

The Workshop participants also encouraged FECM to consider developing a carbon transport RD&D consortium (“the Consortium”) to facilitate information sharing that could result in coordinated RD&D efforts on the TOIs among stakeholders.

II. Consortium Participants

The Consortium is intended to consist of a group of domestic (U.S.) based or incorporated individuals or organizations that are working together to achieve a common objective. It would be structured around committees that would share information about relevant ongoing RD&D activities, conduct gap analyses, and promote synergies which could lead to research project formation and facilitate the performance of peer reviews of projects.

The Consortium is intended to comprise a range of U.S. based or incorporated individuals or organizations including but not limited to:

• Federal agencies

• Tribal governments or sovereign nations

• State agencies

• National laboratories

• Academia

• Non-government organizations

• National standards organizations

• Industry owners and facility operators

• Service providers and equipment vendors

• Trade associations

• Manufacturing entities (e.g., pipe fabricators)

• Labor unions

III. Benefits to Joining

The following benefits could be realized through the Consortium.

1. Information Sharing and Collaboration

The Consortium would facilitate the sharing of information across organizations. This would support awareness and save time as new knowledge, and technologies are developed.

2. Increased Lab Visibility

The Consortium would provide an opportunity for various laboratories to increase awareness surrounding their specific expertise, capabilities, and applicable ongoing work in support of developing future collaborative opportunities surrounding areas of interest relevant to CO2 transportation.

3. Improve Chances To Achieve Goals

The Consortium would bring together professionals working towards mutual goals resulting in better collaboration and cooperation among members. Diverse opinions and individual perspectives for solutions would be encouraged, which would ensure that topics of interest are addressed appropriately.

4. Growing Network of Knowledge

The Consortium would grow a network of quality connections and knowledge by providing increased access to expertise, organization, peer reviewed knowledge and data, and single mode and multimodal transport companies.

The Consortium would create opportunities for attracting new members over time, bringing expertise to fill identified RD&D gaps.

IV. Consortium Structure

Three standing committees are envisioned. FECM would be the Consortium manager and co-chair for some of the Consortium committees. FECM would lead and execute the Consortium with technical coordination and logistical/administrative support from the National Energy Technology Laboratory (NETL). It is anticipated that the Consortium would have one in-person annual meeting with committee meetings that would meet periodically (primarily virtually).

Federal RD&D Steering Committee—This committee would consist of representatives from DOE, and other U.S. Government agencies including government-owned and government-operated labs. The Federal RD&D Steering Committee would be chaired by FECM and would advise FECM on suggested research activities for future funding actions.

Committee for Federally-Funded Research and Development Centers—This committee would consist of representatives from government-owned but contractor-operated labs of the Department of Energy (generally referred to as “National Labs”). This committee would update the Federal RD&D Steering Committee on the progress of the related funded efforts at the National Labs.

Committee for Non-Governmental Organizations, Industry, and Other Subject Matter Experts—This committee is comprised of representatives from non-government organizations, private sector corporations, or individuals independent from the U.S. Government but based or incorporated in the U.S. Committee members must be a U.S. citizen. This committee would share facts or information with the Consortium about ongoing or planned research, and the Consortium would collate this information with its activities. This committee would not provide advice or recommendations to the Consortium or to any of the other committees.

V. Membership Requirements

These requirements can be found on the following web page and will be utilized by FECM to review interested individuals or organizations who wish to join.

Please visit: https://edx.netl.doe.gov/sites/transportconsortium.

VI. Consortium Web Page

The envisioned Consortium web page will further describe the Consortium's mission, activities, and schedule of events; elicit membership; post public domain information; and may provide an on-line forum for information sharing. All respondents to this RFI will be notified when the Consortium web page becomes active.

VII. Questions for Request for Information

Through this NOI and RFI 3330, FECM seeks input from organizations that may be involved in CO2 transport RD&D and interested in becoming a member of this Consortium. The following questions are provided to guide responses. You may answer as few or as many of the questions as you would like. Please use the numbers as headings in your response to the greatest extent possible and refer to the questions in the body of your response. This helps save time for both the responder and the reviewers. Please be as specific as possible in all responses.

1. What is your level of interest in becoming a member of the Consortium and/or a member of one or more of the three Committees described in the RFI?

Organizations and/or individuals must provide the following information when expressing interest in joining the Consortium.

• First Name

• Last Name

• Position Title

• Entity Type

• Company/Organization Name

• Email Address

2. Are you or your organization involved with or interested in research, development, and demonstration (RD&D) activities pertinent to the four TOIs identified in the February 2023 Workshop for Applied Research in CO2 Transport? If so, please respond separately to each TOI (a, b, c, or d) as noted below:

(a) Impact of CO2 Impurities on Asset Integrity

(b) CO2-Specific Leak Detection and Emergency Response Protocols

(c) Repurposing of Existing Infrastructure for CO2 Service

(d) Developing and Connecting with Other Modes of CO2 Transport/Intermodal Hubs

Please include the following information in your responses, if applicable:

• CO2 transport mode

• Project title

• Organization or principal investigator(s) performing the research project

• Main objective(s)

• Description of anticipated project outputs

• URL to public project page or project publications

• Project funding total

• Funding entity name

• Funding entity point of contact

3. Are you or your organization involved with or interested in applied research, development, and demonstration activities relevant to CO2 transport that does not fall into one of the TOIs described in Question 2 above? If so, please suggest a topic of interest that most appropriately describes the RD&D area in which you are working or interested, and include the following information in your responses, if applicable:

• CO2 transport mode

• Project title

• Organization or principal investigator(s) performing the research project

• Main objective(s)

• Description of anticipated project outputs

• URL to public project page w/wo reporting or to access project publications

• Project funding total

• Funding entity name

• Funding entity point of contact

4. What would you find most valuable from having and participating in such a consortium? Please let us know what you think.

VIII. Confidential Business Information

Pursuant to 10 CFR 1004.11, any person submitting information that they believe to be confidential and exempt by law from public disclosure should submit via email two well-marked copies: One copy of the document marked “confidential” including all the information believed to be confidential, and one copy of the document marked “non-confidential” with the information believed to be confidential deleted. Submit these documents via email. DOE will make its own determination about the confidential status of the information and treat it according to its determination.

Signing Authority

This document of the Department of Energy was signed on December 12, 2024, by Brad Crabtree, Assistant Secretary, Office of Fossil Energy and Carbon Management, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 16, 2024.
Jennifer Hartzell,
Alternate Federal Register Liaison Officer, U.S. Department of Energy.

[FR Doc. 2024-30335 Filed 12-19-24; 8:45 am]

BILLING CODE 6450-01-P